DEPARTMENT OF ENERGY

Federal Energy Regulatory Commission

Combined Notice of Filings #1

Take notice that the Commission received the following electric corporate filings:

Docket Numbers: EC15-144-000.

Applicants: Rising Tree Wind Farm III LLC, Arbuckle Mountain Wind Farm LLC.

Description: Application for Authorization for Disposition of Jurisdictional Facilities and Request for Expedited Action of Rising Tree Wind Farm III LLC, et. al.

Filed Date: 5/21/15.

Accession Number: 20150521-5190.

Comments Due: 5 p.m. ET 6/11/15.

Take notice that the Commission received the following exempt wholesale generator filings:

Docket Numbers: EG15-89-000.

Applicants: Greenleaf Power Management LLC.

Description: Self-Certification as an EWG of Greenleaf Power Management LLC.

Filed Date: 5/20/15.

Accession Number: 20150520-5219.

Comments Due: 5 p.m. ET 6/10/15.

Take notice that the Commission received the following electric rate filings:

Docket Numbers: ER13-1940-004.

Applicants: Ohio Valley Electric Corporation.

Description: Compliance filing per 35: Interregional Refile to be effective 1/1/2015.

Filed Date: 5/20/15.

Accession Number: 20150520-5213.

Comments Due: 5 p.m. ET 6/8/15.

Docket Numbers: ER15-1016-000.

Applicants: Shafter Solar, LLC.

Description: Second Amendment to February 9, 2015 and March 24, 2015 Shafter Solar, LLC tariff filings.

Filed Date: 5/21/15.

Accession Number: 20150521-5095.

Comments Due: 5 p.m. ET 6/11/15.

Docket Numbers: ER15-1222-001.

Applicants: Southern California Edison Company.

Description: Tariff Amendment per 35.17(b): SCE's Response to Deficiency re Unexecuted Edom Hills GIA & Distrib Serv Agmt to be effective 9/30/2015.

Filed Date: 5/21/15.

Accession Number: 20150521-5111.

Comments Due: 5 p.m. ET 6/11/15.

Docket Numbers: ER15-1375-000.

Applicants: McCoy Solar, LLC.

Description: Amendment to March 25, 2015 McCoy Solar, LLC tariff filing.

Filed Date: 5/21/15.

Accession Number: 20150521-5103.

Comments Due: 5 p.m. ET 6/11/15.

Docket Numbers: ER15-1392-001.

Applicants: Midcontinent Independent System Operator, Inc.

Description: Tariff Amendment per 35.17(b): 2015-05-21_Montezuma-Tipton Att O Amendment to be effective 6/1/2015.

Filed Date: 5/21/15.

Accession Number: 20150521-5124.

Comments Due: 5 p.m. ET 6/11/15.

Docket Numbers: ER15-1418-000.

Applicants: Adelanto Solar II, LLC.

Description: Amendment to March 31, 2015 Adelanto Solar II, LLC tariff filing.

Filed Date: 5/21/15.

Accession Number: 20150521-5150.

Comments Due: 5 p.m. ET 6/11/15.

Docket Numbers: ER15-1665-000.

Applicants: Greenleaf Power Management LLC.

Description: Supplement to May 4, 2015 Greenleaf Power Management LLC tariff filing.

Filed Date: 5/20/15.

Accession Number: 20150520-5266.

Comments Due: 5 p.m. ET 6/10/15.

Docket Numbers: ER15-1757-000.

Applicants: New York Independent System Operator, Inc.

Description: § 205(d) rate filing per 35.13(a)(2)(iii): NYISO 205 filing Executed Non-Conforming Interconnection Facilities Study Agrmnt to be effective 4/23/2015.

Filed Date: 5/20/15.

Accession Number: 20150520-5214.

Comments Due: 5 p.m. ET 6/10/15.

Docket Numbers: ER15-1758-000.

Applicants: Southern California Edison Company.

Description: § 205(d) rate filing per 35.13(a)(2)(iii): Filing of LGIA for RE Garland Project to be effective 5/21/2015.

Filed Date: 5/21/15.

Accession Number: 20150521-5001.

Comments Due: 5 p.m. ET 6/11/15.

Docket Numbers: ER15-1759-000.

Applicants: Midcontinent Independent System Operator, Inc.

Description: § 205(d) rate filing per 35.13(a)(2)(iii): 2015-05-21_SA 2789 ATC-ITC Midwest Operating Agreement to be effective 7/21/2015.

Filed Date: 5/21/15.

Accession Number: 20150521-5082.

Comments Due: 5 p.m. ET 6/11/15.

Docket Numbers: ER15-1760-000.

Applicants: Southwestern Public Service Company.

Description: § 205(d) rate filing per 35.13(a)(2)(iii): 2015-5-21_SPS-RWSE-E&P-680-0.0.0-Filing to be effective 7/20/2015.

Filed Date: 5/21/15.

Accession Number: 20150521-5096.

Comments Due: 5 p.m. ET 6/11/15.

Docket Numbers: ER15-1761-000.

Applicants: Southwestern Public Service Company.

Description: § 205(d) rate filing per 35.13(a)(2)(iii): 2015-5-21_SPS-ChvCtySlr-E&P-681-0.0.0-Filing to be effective 7/20/2015.

Filed Date: 5/21/15.

Accession Number: 20150521-5101.

Comments Due: 5 p.m. ET 6/11/15.

Docket Numbers: ER15-1762-000.

Applicants: Southwestern Public Service Company.

Description: § 205(d) rate filing per 35.13(a)(2)(iii): 2015-5-21_SPS-OrWR-E&P-682-0.0.0-Filing to be effective 7/20/2015.

Filed Date: 5/21/15.

Accession Number: 20150521-5105.

Comments Due: 5 p.m. ET 6/11/15.

Docket Numbers: ER15-1763-000.

Applicants: El Paso Electric Company.

Description: Notice of Cancellation of Rate Schedule 53 of El Paso Electric Company.

Filed Date: 5/21/15.

Accession Number: 20150521-5108.

Comments Due: 5 p.m. ET 6/11/15.

Docket Numbers: ER15-1764-000.

Applicants: Midcontinent Independent System Operator, Inc.

Description: § 205(d) rate filing per 35.13(a)(2)(iii): 2015-05-21_SA 2789 Notice of Termination ATC-ITCM Operating Agreement to be effective 7/21/2015.

Filed Date: 5/21/15.

Accession Number: 20150521-5133.

Comments Due: 5 p.m. ET 6/11/15.

Docket Numbers: ER15-1765-000.

Applicants: California Independent System Operator Corporation.

Description: § 205(d) rate filing per 35.13(a)(2)(iii): 2015-05-21 APS ABAOA and Termination of RS 17 to be effective 5/22/2015.

Filed Date: 5/21/15.

Accession Number: 20150521-5135.

Comments Due: 5 p.m. ET 6/11/15.

Docket Numbers: ER15-1765-001.

Applicants: California Independent System Operator Corporation.

Description: Tariff Amendment per 35.17(b): 2015-05-21 Amended APS ABAOA to be effective 7/23/2015.

Filed Date: 5/21/15.

Accession Number: 20150521-5147.

Comments Due: 5 p.m. ET 6/11/15.

Docket Numbers: ER15-1766-000.

Applicants: PJM Interconnection, L.L.C., The Dayton Power and Light Company.

Description: § 205(d) rate filing per 35.13(a)(2)(iii): DP&L submits Original Service Agreement No. 4124 to be effective 5/22/2015.

Filed Date: 5/21/15.

Accession Number: 20150521-5176.

Comments Due: 5 p.m. ET 6/11/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 21, 2015.
Nathaniel J. Davis, Sr.,
Deputy Secretary.

[FR Doc. 2015-13075 Filed 5-29-15; 8:45 am]

BILLING CODE 6717-01-P